DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Research on Evacuating Persons with Mobility Impairments.

OMB Control Number: None.

Form Number(s): None.

Type of Request: Regular submission (new information collection).

Number of Respondents: 280.

Average Hours per Response: Surveys, 15 minutes; Interviews, 2 hours; and Focus groups, 2 hours.

Burden Hours: 193.

Needs and Uses: NIST's previous research on elevators has primarily focused on the technical aspects of ensuring safe and reliable evacuation for the occupants of tall buildings. In addition, the International Code Council and the National Fire Protection Association provide requirements for the use of elevators for both occupant evacuation and fire fighter access into the building. However, there still is little understanding of how occupants use elevator systems during fire emergencies.

The focus of this research effort is two-fold: (1) to gain an understanding of how building occupants with mobility impairments currently evacuate multi-story buildings in the United States during fire emergencies, and (2) to learn about the concerns of persons with mobility impairments on using elevators during fire evacuations. This research aims to provide guidance to designers and building managers on aspects of fire evacuation that concern occupants with mobility impairments and on how to improve elevator design and usage during fire emergencies. The research includes four opportunities for participation:

(a) Building managers and designated safety personnel from a sample of four to ten existing and new federal high-rise buildings in the United States will be contacted to complete a questionnaire requesting information on the emergency plans and procedures for the building, including how the buildings' evacuation plans incorporate the use of the existing elevator system to evacuate occupants with mobility impairments during fire emergencies. The building emergency plan will be requested from either the General Services Administration (GSA) or from the building manager.

(b) Occupants with mobility impairments in the buildings identified in part (a) will be asked for basic information on their mobility with regard to evacuation, previous evacuation experiences, and preferences on how to evacuate during a fire emergency. At the end of the questionnaire, they will be invited to participate in a one-on-one interview to discuss these issues in more detail.

(c) Occupants with mobility impairments identified in part (b) will participate in a one-on-one interview requesting more detailed information on previous evacuation experiences, awareness of emergency procedures, and views and preferences on using an elevator to evacuate during a fire emergency.

(d) Professionals involved with emergency planning (e.g., GSA, USDA, DHS, building emergency managers, researchers) and building occupants with mobility impairments will be invited to participate in one of two focus groups. A preliminary analysis of the data resulting from parts (a) through (c) will be summarized in the form of two sets of potential plans for the use of elevators during fire evacuation by occupants with mobility impairments: one for existing buildings and one for new buildings. Members of the focus groups will review both of these potential plans. They will then participate in a discussion that will lead to guidance for designers and building managers on aspects of fire evacuation that concern occupants with mobility impairments and on how to improve elevator design and usage during fire emergencies. The order of the discussion of plans for existing and new buildings will be switched for the two focus groups to ensure that each plan receives the same amount of attention overall.

Affected Public: Collections (a) and (d): Selected individuals, such as building managers and designated safety personnel, who are familiar with or in charge of developing emergency procedures for multi-story buildings in the United States, including both federal and private sector buildings;

Collections (b) and (c): Selected high-rise building occupants with mobility impairments.

Frequency: One time.

Respondent's Obligation: Voluntary.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OMB Desk Officer, Jasmeet Seehra, FAX Number (202) 395-5167, or Jasmeet_K._Seehra@omb.eop.gov).

Dated: May 23, 2013.
Gwellnar Banks,
Management Analyst, Office of the Chief Information Officer.

[FR Doc. 2013-12788 Filed 5-29-13; 8:45 am]

BILLING CODE 3510-13-P